Title 3—

The President

Proclamation 7776 of April 30, 2004

Older Americans Month, 2004

By the President of the United States of America

A Proclamation

More than 47 million Americans are 60 years old or older. During Older Americans Month, we honor our senior citizens for enriching and strengthening our Nation, and we pledge to continue working to enhance their quality of life.

This year's theme, “Aging Well, Living Well,” reflects the many ways that older Americans contribute to our national character. Many are working beyond traditional retirement age, while others volunteer their time serving worthy causes. Through the Senior Corps program of the USA Freedom Corps, more than half a million older Americans donated time to their communities last year, and many others are volunteering through the Peace Corps and other programs.

My Administration is committed to helping our senior citizens lead better, healthier, and longer lives. Late last year, I was proud to sign into law the Medicare Prescription Drug, Improvement, and Modernization Act of 2003. This historic legislation represents the greatest improvement in senior health care since President Lyndon Johnson signed the Social Security Act Amendments that created Medicare in 1965. It gives seniors access to affordable prescription drug coverage, provides for preventive screenings to diagnose and treat health conditions early, and updates the Medicare system to let seniors choose coverage that best meets their needs. These changes are vital to ensuring that seniors can obtain the health care and prescription drugs they deserve.

Older Americans help others to understand the past, and they teach timeless lessons of courage, endurance, and love. Through their legacy of patriotism, service, and responsibility, America's seniors also unite families and communities and serve as role models for younger generations.

NOW, THEREFORE, I, GEORGE W. BUSH, President of the United States of America, by virtue of the authority vested in me by the Constitution and laws of the United States, do hereby proclaim May 2004 as Older Americans Month. I commend older Americans for the contributions they make to our communities. I further commend Federal officials, State, and local governments, tribal organizations, service and health care providers, caregivers, volunteers, and all those who work on behalf of our senior citizens. I encourage all Americans to honor their elders and publicly reaffirm our Nation's commitment to older Americans during this month and throughout the year.

IN WITNESS WHEREOF, I have hereunto set my hand this thirtieth day of April, in the year of our Lord two thousand four, and of the Independence of the United States of America the two hundred and twenty-eighth.

B

[FR Doc. 04-10366

Filed 5-4-04; 8:45 am]

Billing code 3195-01-P